DEPARTMENT OF HOUSING AND URBAN DEVELOPMENT

[Docket No. FR-4652-N-07]

Notice of Proposed Information Collection for the Low-Income Public Housing Financial Statements

AGENCY: Office of the Assistant Secretary for Public and Indian Housing, HUD.

ACTION: Notice.

SUMMARY: The proposed information collection requirement described below will be submitted to the Office of Management and Budget (OMB) for review, as required by the Paperwork Reduction Act. The Department is soliciting public comments on the subject proposal.

DATES: Comments Due Date: May 22, 2001.

ADDRESSES: Interested persons are invited to submit comments regarding this proposal. Comments should refer to the proposal by name and/or OMB Control number and should be sent to: Mildred M. Hamman, Reports Liaison Officer, Public and Indian Housing, Department of Housing and Urban Development, 451 7th Street, SW., Room 4238, Washington, DC 20410-5000.

FOR FURTHER INFORMATION CONTACT: Mildred M. Hamman, (202) 708-3642, extension 4128, for copies of the proposed forms and other available documents. (This is not a toll-free number).

SUPPLEMENTARY INFORMATION: The Department will submit the proposed information collection to OMB for review, as required by the Paperwork Reduction Act of 1995 (44 U.S.C. Chapter 35, as amended).

This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology; e.g., permitting electronic submission of responses.

This Notice also lists the following information:

Title of Proposal: Low-Income Public Housing Financial Statements.

OMB Control Number; 2577-0067.

Description of the need for the information and proposed use: Public Housing Agencies (PHAs) submit annually the Form HUD-52599 electronically over the Internet or manually to HUD. The data contained on the form tracks the major accounts of the HUD-prescribed PHA operating budget forms and provides essential financial information on the operations of the PHA. HUD offices use the information provided by the financial statement for such purposes as: monitoring the overall effectiveness and efficiency of PHA operations and compliance with statutory and legal requirements, identifying at an early stage problems, potential problems, or negative trends affecting the financial solvency of a PHA; compliance with the approved operating budget of the PHA; establishing a nationwide data base for PHA operating income/expense information that is used in determining operating subsidy funding requirements and for other HUD analytical purposes.

The Form HUD-52295, Report of Tenants Accounts Receivable (TAR), is used by the HUD field offices to monitor a PHA's ability to collect amounts due from tenants in possession by collecting, by negotiating payments, or by evicting tenants who refuse to pay; the form will be automated in a Public and Indian Housing (PIH) system.

Forms HUD-52595, HUD-52596, HUD-52598, HUD-52603, HUD-53049, HUD-52656 are being discontinued because sufficient comparable information is available as part of the financial data submitted by PHAs to HUD's Real Estate Assessment Center (REAC) under the Uniform Financial Reporting Standards prescribed in 24 CFR 5.801, Subpart H.

The Form HUD 52599 requires the PHAs to submit data on operating income and expenses and surplus (or deficit) if any, with respect to the project or projects under each Annual Contributions Contract; the Form HUDD 52295 requires PHAs to submit information on the total accounts receivable for tenants in occupancy and for those who have vacated their units.

Agency form number: HUD-52599; HUD-52295.

Members of affected public: State, Local government.

Estimation of the total number of hours needed to prepare the information collection including number of respondents, frequency of response, and hours of response: 3,300, annually, total number of responses (2 forms), 1.25 hours per response for a total reporting burden of 4,125 hours.

Status of the proposed information collection: Reinstatement, with change (automation).

Authority: Section 3506 of the Paperwork Reduction Act of 1995, 44 U.S.C. Chapter 35, as amended.

Dated: March 16, 2001.
Gloria Cousar,
Acting General Deputy Assistant Secretary for Public and Indian Housing.

BILLING CODE 4210-33-M

[FR Doc. 01-7180 Filed 3-22-01; 8:45 am]

BILLING CODE 4210-33-C